DEPARTMENT OF HEALTH AND HUMAN SERVICES

Health Resources and Services Administration

HRSA-03-096 Fiscal Year 2003 Competitive Application Cycle for the Nurse Education, Practice and Retention Grant Program Internship and Residency Programs (INRE)—CFDA 93.359

AGENCY: Health Resources and Services Administration, HHS.

ACTION: Notice.

SUMMARY: The Health Resources and Services Administration (HRSA) announces that applications will be accepted for the Nurse Education, Practice and Retention Grant Program; Grants for Internships and Residency Programs for Fiscal Year 2003.

Purpose: Grants will be awarded to eligible entities for programs to develop and implement internship and residency programs to encourage mentoring and the development of specialties.

Authorizing Legislation: These applications are solicited under the authority of title VIII, section 831 of the Public Health Service (PHS) Act, as amended.

Statutory Matching or Cost Sharing Requirement: None.

Eligible Applicants: The following are eligible entities: Schools of nursing, health care facilities, or a partnership of such a school and facility; academic health centers, State or local governments, and, other public and private non profit entities determined appropriate by the Secretary. Non profit (entities) means any school, agency, organization or institution which is a corporation or association or is owned and operated by one or more corporations or associations, no part of the net earnings of which inures, or may lawfully inure to the benefit of any private shareholder or individual as defined in Section 801(7) of the PHS Act.

Funding Priorities and/or Preferences: As provided in section 805 of the Public Health Service Act, a funding preference will be applied to approved applications with projects that will substantially benefit rural or underserved populations, or help meet public health nursing needs in State or local health departments. This preference will be applied to applications that rank above the 20th percentile of applications recommended for approval.

Review Criteria: Applications will be reviewed by a panel of peer reviewers using the following criteria:

(a) A clearly stated project purpose;

(b) A documented need for the proposed project;

(c) The potential effectiveness of the proposed project;

(d) A clearly articulated project plan including evaluation of project objectives;

(e) A plan for addressing diversity and cultural competence;

(f) A comprehensive plan for project management;

(g) The reasonableness of the budget and fiscal plan;

(h) The presence of established and/or planned linkages with relevant entities.

Final review criteria are included in the application kit.

Estimated Amount of Available Funds: It is estimated that $3 million will be available in fiscal year 2003.

Estimated Number of Awards: This is a new program; the estimated number of awards may range from 12 to 30 in fiscal year 2003.

Estimated or Average Size of Each Award: This is a new grant program; the estimated costs are expected to vary considerably with a range from $75,000 to $250,000.

Estimated Project Period: Applications may be submitted for 2 years, 10 months. The first budget period is September 1, 2003-June 30, 2004; the second and third budget periods are July 1, 2004-June 30, 2005 and July 1, 2005-June 30, 2006 respectively.

Application Requests, Availability, Dates and Addresses: Applicants for this program are encouraged to notify HRSA, Division of Nursing of their intent to apply. Notification can be made in one of three ways: call, e-mail or mail Dr. Madeleine Hess of your intent. Telephone (301) 443-6336; e-mail mhess@hrsa.gov; mail Division of Nursing, Bureau of Health Professions, HRSA, Parklawn Building, Room 9-35, 5600 Fishers Lane, Rockville MD 20857. Application materials will be available for downloading via the web at http://bhpr.hrsa.gov/grants.htm on April 29, 2003. Applicants may also request a hard copy of the application material by contacting the HRSA Grants Application Center, 901 Russell Avenue, Suite 450, Gaithersburg, Maryland, 20879, by calling at 1-877-477-2123, or by fax at 1-877-477-2345. Applications may not be submitted electronically at this time. In order to be considered for competition, hard copy applications must be postmarked by the due date of June 6, 2003. Applicants should request a legibly dated U.S. Postal postmark or obtain a legibly dated receipt from a commercial carrier or U.S. Postal Service. Private metered postmarks shall not be acceptable as proof of timely mailing. An application receipt will be provided. Applications submitted after the deadline date will be returned to the applicant and not processed.

Projected Award Date: September 1, 2003.

FOR FURTHER INFORMATION CONTACT: Madeleine Hess, Division of Nursing, Bureau of Health Professions, HRSA, Room 9-35, Parklawn Building, 5600 Fishers Lane, Rockville, Maryland 20857. Telephone number: (301) 443-6336. E-mail: mhess@hrsa.gov.

Paperwork Reduction Act: The Application for the Nurse Education, Practice and Retention Grant Program has been approved by the Office of Management and Budget (OMB) under the Paperwork Reduction Act. The OMB clearance number is 00915-0060. The program is not subject to the provision of Executive Order 12372, Intergovernmental Review of Federal Programs (as implemented through 45 CFR part 100).

Dated: April 16, 2003.
Elizabeth M. Duke,
Administrator.

[FR Doc. 03-10477 Filed 4-28-03; 8:45 am]

BILLING CODE 4165-15-P